DEPARTMENT OF COMMERCE

International Trade Administration

[A-552-802]

Third Antidumping Duty Administrative Review of Certain Frozen Warmwater Shrimp from the Socialist Republic of Vietnam: Extension of Time Limit for the Preliminary Results

AGENCY: Import Administration, International Trade Administration, Department of Commerce.

EFFECTIVE DATE: September 18, 2008.

FOR FURTHER INFORMATION CONTACT: Paul Walker, AD/CVD Operations, Office 9, Import Administration, International Trade Administration, U.S. Department of Commerce, 14th Street and Constitution Avenue, NW, Washington DC 20230; telephone: (202) 482-0413.

Background

On April 7, 2008, the Department of Commerce (“Department”) published a notice of initiation of an administrative review of certain frozen warmwater shrimp from the Socialist Republic of Vietnam (“Vietnam”), covering the period February 1, 2007 - January 31, 2008. See Notice of Initiation of Administrative Reviews of the Antidumping Duty Orders on Frozen Warmwater Shrimp from the Socialist Republic of Vietnam and the People's Republic of China, 73 FR 18739 (Aprl 7, 2008) (“Initiation”). On June 9, 2008, after receiving comments on U.S. Customs and Border Protection data, the Department selected the mandatory respondents for this review. From July 1, 2008 to August 13, 2008, the mandatory respondents responded to the Department's antidumping duty questionnaire. The preliminary results of this administrative review are currently due on October 31, 2008.

Extension of Time Limit for the Preliminary Results

Section 751(a)(3)(A) of the Tariff Act of 1930, as amended (“the Act”), requires the Department to issue the preliminary results of an administrative review within 245 days after the last day of the anniversary month of an order for which a review is requested. If it is not practicable to complete the review within the time period, section 751(a)(3)(A) of the Act allows the Department to extend this deadline to a maximum of 365 days.

The Department determines that completion of the preliminary results of this review within the statutory time period is not practicable, given the extraordinarily complicated nature of the proceeding. The Department requires more time to gather and analyze a significant amount of information pertaining to each of the mandatory respondents' corporate structure and ownership, sales practices, and manufacturing methods. The Department also requires additional time to analyze the questionnaire responses and to issue supplemental questionnaires. Therefore, given the number and complexity of issues in this case, and in accordance with section 751(a)(3)(A) of the Act, we are extending the time period for issuing the preliminary results of review by 120 days until March 2, 2009. The final results continue to be due 120 days after the publication of the preliminary results.

This notice is published pursuant to section 751(a)(3)(A) of the Act and 19 CFR 351.213(h)(2).

Dated: September 11, 2008.
Stephen J. Claeys,
Deputy Assistant Secretary for Import Administration.

[FR Doc. E8-21883 Filed 9-17-08; 8:45 am]

BILLING CODE 3510-DS-S